DEPARTMENT OF ENERGY

Federal Energy Regulatory Commission

Combined Notice of Filings

Take notice that the Commission has received the following Natural Gas Pipeline Rate and Refund Report filings:

Filings Instituting Proceedings

Docket Number: PR19-41-000.

Applicants: Altus Midstream Pipeline LP.

Description: Tariff filing per 284.123(b), (e)+(g): Revised Statement of Operating Conditions to be effective2/14/2019;

Filed Date: 2/22/19.

Accession Number: 201902225029.

Comments Due: 5 p.m. ET 3/15/19.

284.123(g) Protests Due: 5 p.m. ET4/23/19.

Docket Numbers: RP19-671-000.

Applicants: Natural Gas Pipeline Company of America.

Description: § 4(d) Rate Filing: Negotiate Rate Agreement-J Aron and Company to be effective 4/1/2019.

Filed Date: 2/20/19.

Accession Number: 20190220-5000.

Comments Due: 5 p.m. ET 3/4/19.

Docket Numbers: RP19-672-000.

Applicants: Natural Gas Pipeline Company of America.

Description: § 4(d) Rate Filing: Negotiated Rate Agreement-Spire Marketing Inc. to be effective 4/1/2019.

Filed Date: 2/20/19.

Accession Number: 20190220-5001.

Comments Due: 5 p.m. ET 3/4/19.

Docket Numbers: RP19-673-000.

Applicants: Natural Gas Pipeline Company of America.

Description: § 4(d) Rate Filing: Negotiated Rate Agreement-Mercuria Energy America to be effective 4/1/2019.

Filed Date: 2/20/19.

Accession Number: 20190220-5002.

Comments Due: 5 p.m. ET 3/4/19.

Docket Numbers: RP19-674-000.

Applicants: Natural Gas Pipeline Company of America.

Description: § 4(d) Rate Filing: Negotiated Rate Agreement-Wells Fargo Commodities to be effective 4/1/2019.

Filed Date: 2/20/19.

Accession Number: 20190220-5003.

Comments Due: 5 p.m. ET 3/4/19.

Docket Numbers: RP19-206-002.

Applicants: Mississippi Canyon Gas Pipeline, L.L.C.

Description: Compliance filing MCGP Further Extension to file Form 501-G.

Filed Date: 2/21/19.

Accession Number: 20190221-5265.

Comments Due: 5 p.m. ET 2/26/19.

Docket Numbers: RP19-675-000.

Applicants: Florida Gas Transmission Company, LLC.

Description: § 4(d) Rate Filing: Housekeeping Filing on 2-20-19 to be effective 3/23/2019.

Filed Date: 2/21/19.

Accession Number: 20190221-5000.

Comments Due: 5 p.m. ET 3/5/19.

Docket Numbers: RP19-676-000.

Applicants: Florida Gas Transmission Company, LLC.

Description: § 4(d) Rate Filing: Housekeeping—Original Volume 1-A on 2-20-19 to be effective 3/23/2019.

Filed Date: 2/21/19.

Accession Number: 20190221-5001.

Comments Due: 5 p.m. ET 3/5/19.

Docket Numbers: RP19-677-000.

Applicants: Elba Express Company, L.L.C.

Description: § 4(d) Rate Filing: Shell Negotiated Rate 4/1/19 to be effective4/1/2019.

Filed Date: 2/21/19.

Accession Number: 20190221-5083.

Comments Due: 5 p.m. ET 3/5/19.

Docket Numbers: RP19-678-000.

Applicants: Empire Pipeline, Inc.

Description: Compliance filing Refund Report (Per Settlement in RP16-300).

Filed Date: 2/21/19.

Accession Number: 20190221-5117.

Comments Due: 5 p.m. ET 3/5/19.

Docket Numbers: RP19-679-000.

Applicants: Texas Eastern Transmission, LP.

Description: § 4(d) Rate Filing: Negotiated Rates—Feb2019 Cleanup Filing to be effective 3/23/2019.

Filed Date: 2/21/19.

Accession Number: 20190221-5150.

Comments Due: 5 p.m. ET 3/5/19.

Docket Numbers: RP19-680-000.

Applicants: Munich Re Trading LLC,Castleton Commodities Merchant Trading L.

Description: Joint Petition for Temporary Waivers of Capacity Release Regulations and Policies, et al. of Munich Re Trading LLC, et al.

Filed Date: 2/21/19.

Accession Number: 20190221-5151.

Comments Due: 5 p.m. ET 2/28/19.

Docket Numbers: RP19-681-000.

Applicants: Northern Natural Gas Company.

Description: § 4(d) Rate Filing: 20190221 Negotiated Rate to be effective 2/21/2019.

Filed Date: 2/21/19.

Accession Number: 20190221-5163.

Comments Due: 5 p.m. ET 3/5/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 22, 2019.
Nathaniel J. Davis, Sr.,
Deputy Secretary.

[FR Doc. 2019-03741 Filed 3-1-19; 8:45 am]

BILLING CODE 6717-01-P